DEPARTMENT OF LABOR

Employment and Training Administration

[TA-W-70,601]

Ceda-Pine Veneer, Inc., a Subsidiary of Excaliber, Inc., Sandpoint, ID; Notice of Negative Determination Regarding Application for Reconsideration

By application dated March 10, 2010, a company official requested administrative reconsideration of the Department's negative determination regarding eligibility to apply for Trade Adjustment Assistance (TAA), applicable to workers and former workers of the subject firm. The negative determination was signed on December 17, 2009. The Department's Notice of negative determination was published in the Federal Register on February 16, 2010 (75 FR 7034).

Pursuant to 29 CFR 90.18(c,) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The negative determination of the TAA petition filed on behalf of workers at Ceda-Pine Veneer, Inc., Sandpoint, Idaho, was based on the finding that there was no increase of imports by the workers' firm or its customer and no shift/acquisition by the workers' firm; nor did the workers produce an article or supply a service that was used by a firm with TAA-certified workers in the production of an article or supply of a service that was the basis for TAA-certification.

In the request for reconsideration, the petitioner stated that the workers should be eligible to apply for TAA because of the importation from Canada of boards whose production is subsidized by the Canadian government and that similarly-situated workers (workers at mills producing similar products in the same part of the country) are eligible to apply for TAA, specifically Welco, LLC, Naples, Idaho (TA-W-72,655, certified on January 25, 2010).

The basis for certification of TA-W-72,655 was increased imports by the major declining customers of Welco, LLC. The increase in imports was revealed by a customer survey conducted by the Department.

In the case at hand, however, the survey of the major declining customers of the subject firm regarding their purchases of veneer and lumber boards revealed no increase imports nor any increased reliance on imports on the part of the subject firm's customers during the relevant time period.

The petitioner did not supply facts not previously considered, nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC, this 12th day of May, 2010.
Del Min Amy Chen,
Certifying Officer, Division of Trade Adjustment Assistance.

[FR Doc. 2010-12254 Filed 5-20-10; 8:45 am]

BILLING CODE 4510-FN-P